DEPARTMENT OF HEALTH AND HUMAN SERVICES

Announcement of Availability of Funds for Adolescent Family Life (AFL) Demonstration Projects

AGENCY: Office of the Secretary.

Announcement Type: Initial.

CFDA: A description of the Title XX program can be found at the OMB Catalog of Federal Domestic Assistance 93.995.

DATES: To receive consideration, applications must be received by the Office of Public Health and Science (OPHS) Office of Grants Management no later than April 4, 2005. Mailed applications will be considered as meeting the deadline if they are received by the OPHS Office of Grants Management no later than 5 p.m. Eastern Standard time on the application due date. Applications will not be accepted by fax, nor will the submission deadline be extended. The application due date requirement specified in this announcement supersedes the instructions in the OPHS-1. Applications which do not meet the deadline will be returned to the applicant unread. See heading “Application and Submission Information” for additional information.

SUMMARY: Title XX of the Public Health Service Act, 42 U.S.C. 300z. et seq., authorizes the Secretary of Health and Human Services to award grants for demonstration projects to provide services to pregnant and nonpregnant adolescents, adolescent parents, and their families. These grants are for public or private nonprofit organizations or agencies to find effective means of strengthening families by providing an array of services that help prevent repeat pregnancy and provide adolescent mothers, fathers and/or male partners, and their babies with services that enhance their well-being. Faith-based organizations are encouraged to apply. See heading “Care Services” for additional information.

The Office of Adolescent Pregnancy Programs (OAPP) of the Office of Population Affairs (OPA) requests applications for care demonstration grants under the Adolescent Family Life (AFL) Demonstration Projects Program, as authorized by Title XX of the Public Health Service Act. These Title XX grants should clearly and consistently establish comprehensive and integrated approaches to the delivery of care services to pregnant adolescents, adolescent parents, their children, their extended family members, fathers of their children, and/or male partners to whom they are married or in a long-term relationship.

I. Funding Opportunity Description

Care Services

Under this announcement, funds are available for care projects only. The project site or sites must be identified in the application rather than selected after the grant is awarded. The OAPP encourages services that involve not only the young fathers and/or male partners, but also the parents and families of the pregnant and/or parenting adolescent.

Under the Title XX statute, the primary purpose of care programs is to establish innovative, comprehensive, and integrated approaches to the delivery of care services for pregnant adolescents and adolescent parents under 19 years of age at program entry, with primary emphasis on unmarried adolescents who are 17 years old or younger. Care services should promote the involvement of the pregnant and parenting adolescents' families, young fathers and/or male partners. The OAPP encourages the submission of care applications which propose to: (1) Add care services to supplement existing adolescent health services in school, hospital or other community settings; (2) provide care services to minority or other disadvantaged populations; (3) continue services to clients after the delivery of the baby to enable them to acquire good parenting skills and to ensure that their children are developing normally physically, intellectually and emotionally; (4) stress self-sufficiency skills, such as school completion (in mainstream or alternative schools and GED programs) and/or job training preparation and placement; (5) involve males and promote male responsibility (e.g., through job training, parenting classes, and counseling); (6) provide education on how to build and maintain healthy relationships, prepare for marriage, parenting and future families; (7) assure identification of mental health concerns and referral to appropriate resources; and (8) provide STD and HIV/AIDS awareness and prevention counseling. Applicants should base their approaches upon an assessment of existing programs and, where appropriate, upon efforts to establish better coordination, integration, and linkages among such existing programs.

Under the statutory requirements of Title XX, applicants for care projects are required to provide, either directly or by referral, the following 10 core services:

(1) Pregnancy testing and maternity counseling;

(2) Adoption counseling and referral services which present adoption as an option for pregnant adolescents, including referral to licensed adoption agencies in the community if the eligible grant recipient is not a licensed adoption agency;

(3) Primary and preventive health services, including prenatal and postnatal care;

(4) Nutrition information and counseling;

(5) Referral for screening and treatment of STDs, including HIV/AIDS;

(6) Referral to appropriate pediatric care;

(7) Educational services relating to family life and problems associated with adolescent premarital sexual relations including:

(a) Information about adoption;

(b) Education on the responsibilities of sexuality and parenting;

(c) The development of material to support the role of parents as the providers of sex education; and

(d) Assistance to parents, schools, youth agencies and health providers to educate adolescents and preadolescents concerning self-discipline and responsibility in human sexuality;

(8) Appropriate educational and vocational services;

(9) Mental health services and referral to mental health services and to other appropriate physical health services; and

(10) Counseling and referral for family planning services.

Note: Funds provided under Title XX may not be used for the provision of family planning services other than counseling and referral services unless appropriate family planning services are not otherwise available in the community. In accordance with sec. 2006(a)(17) of Title XX (42 U.S.C. 300z-5(a)(17)), applicants must make maximum use of funds available under the Title X Family Planning Program in providing this required core service.

In addition to the 10 required core services listed above, applicants for care projects may provide any of the following supplemental services:

(1) Referral to licensed residential care or maternity home services;

(2) Child care sufficient to enable the adolescent parent to continue education or to enter into employment;

(3) Consumer education;

(4) Counseling for the immediate and extended family members of the eligible person;

(5) Transportation; and

(6) Outreach services to families of adolescents to discourage sexual relations among unemancipated minors.

Youth Development or Developmental Assets Approach

Achieving a successful transition into adulthood for adolescents can be difficult and this is particularly so for pregnant and parenting adolescents. Research has clearly shown that future educational and economic prospects for teens decline significantly if they have a baby. Teen pregnancy is closely linked to less than optimal health outcomes for mother and infant, school dropout, lack of job skills, repeat pregnancies, poverty, and unstable home environments. To help address these multiple problems, the OAPP encourages applicants to incorporate youth development concepts into their care programs.

All adolescents need to see hope for their future, acquire the skills necessary to turn hope into reality, and be provided with opportunities to help them reach that reality. Examples of youth development activities in a care program are ones that address school retention and completion, job and vocational training, building and maintaining healthy relationships, building skills, confidence and self-efficacy, and avoiding health risks such as tobacco, alcohol, drug use, and repeat pregnancy. These types of activities contribute to strengthening the support systems these young parents need to achieve productive futures. Where possible, adolescents should be an integral part of the design, implementation, and evaluation of this approach. All services provided by AFL grantees, however, including all activities that are part of a youth development approach, must be within the scope of the Title XX care services listed above.

Parental, Family, and Male Involvement

Strengthening families is a primary focus for the OAPP. In the case of adolescent parents, this includes not only providing health, educational, and social services for the adolescent who is pregnant and/or parenting, but also finding ways to ensure the healthy involvement of the infant's father and the family of the adolescent. Research has clearly shown the importance of families in the social, emotional, and intellectual growth of children. Adolescent parents are still adolescents; they need the involvement and support of their own parents as they continue their transition to adulthood. Successful care programs should address these issues by including a component that engages families, fathers, or male partners in creative and meaningful ways. Teen mothers, fathers, or male partners to whom they are married or in a long-term relationship, need encouragement and skills to establish stable, safe families.

Goals and Objectives

All applications should include a program goal(s) statement and related outcome objectives. A goal is a general statement of what the project hopes to accomplish. It should reflect the long-term desired impact of the project on the target group(s) as well as reflect the program goals contained in this program announcement. An outcome objective is a statement which defines a measurable result the project expects to accomplish. Outcome objectives should be described in terms that measure the results the project will bring about (e.g., decrease in repeat adolescent births among the treatment group; increase in parenting skills). Good applications should contain 3-5 outcome objectives that are specific, measurable, achievable, realistic and time-framed (S.M.A.R.T.).

Specific: An objective should specify one major result directly related to the program goal, state who is going to be doing what, to whom, by how much, and in what time-frame. It should specify what will be accomplished and how the accomplishment will be measured.

Measurable: An objective should be able to describe in realistic terms the expected results and specify how such results will be measured.

Achievable: The accomplishment specified in the objective should be achievable within the proposed time line and as a direct result of program activities.

Realistic: The objective should be reasonable in nature. The specified outcomes, expected results, should be described in realistic terms.

Time-framed: An outcome objective should specify a target date or time for its accomplishments. It should state who is going to be doing what, by when, etc. The Public Management Institute, How to Get Grants (1981).

Evaluation

Section 2006(b)(1) of Title XX requires each grantee to expend at least one percent, but not more than five percent, of the Federal funds received under Title XX on evaluation of the project. In cases in which a more rigorous or comprehensive evaluation effort is proposed (see sec.2006(b)(1)) waivers of the five percent limit on evaluation may be granted by OAPP. Under this announcement, the OAPP is requesting applications for evaluation-intensive projects. For evaluation-intensive projects, the OAPP will waive the five percent limit up to a maximum of 20 percent. In turn, applicants are expected to include a clear and fully developed evaluation plan that generally meets the following six criteria.

1. The evaluation plan should be directly tied to program objectives. Research hypotheses should be clearly stated and reflect the outcomes the program intends to achieve.

2. The evaluation plan should include a process or implementation evaluation. Evaluations in their first year should focus on determining that the intervention is in place, that it is adequately and appropriately staffed, and that it is reaching its intended population.

3. The evaluation plan should have a viable comparison strategy. If a true experimental design with random assignment is not possible, a quasi-experimental design with matched comparison group would be acceptable.

4. The evaluation plan should have a sufficient sample size to ensure that any observed differences between groups are significant.

5. The evaluation plan should measure dosage. Client participation and use of various service components should be carefully tracked so that any differences can be corrected for, or at least taken into account, in discussion of evaluation results.

6. The evaluation plan should include a follow-up assessment and longitudinal tracking of program participants during and after the intervention.

In addition, applications should clearly demonstrate the capacity to participate in a cross-site evaluation, as well as the understanding that use of a core evaluation instrument, currently being developed by the OAPP, will be incorporated into the outcome evaluation design. Section 2006(b)(2) of Title XX requires that evaluations be conducted by an organization or entity independent of the grantee providing services. To assist in conducting the evaluation, each grantee shall develop a working relationship with a college or university located in the grantee's state which will provide monitoring and evaluation of the proposed program. The OAPP strongly recommends extensive collaboration between the applicant organization and the proposed evaluator. It is important to establish this relationship when preparing the application to ensure that the project's goals and objectives and the evaluation plan are consistent with each other.

Curricula Review

The grantee shall submit all curricula and educational materials for use in the AFL project, whether currently available or to be developed by the grantee to the OAPP for review and approval prior to use in the project. The review shall ensure that the materials are medically accurate, consistent with Title XX policies on religion, and in compliance with the statutory prohibitions against advocating, promoting, encouraging, or providing abortions.

Applicants should describe current and proposed efforts to prevent the sexual coercion and exploitation of teens by older partners, as well as management and reporting that comply with State reporting laws regarding child sexual abuse, sexual assault (including statutory rape), incest, or family violence in their proposals. For more information, applicants may access the National Clearinghouse on Child Abuse and Neglect Web site at http://nccanch.acf.hhs.gov.

II. Award Information

Under this program announcement, the OAPP intends to make available approximately $5 million to support an estimated 15-20 new care demonstration grants, up to a maximum of $375,000 each per year. Any application that proposes funding over the maximum will not be considered. Please note, in Fiscal Year (FY) 2001, the OAPP issued a similar Request for Applications (RFA) announcing approximately $5 million for new care demonstration projects. In response to that RFA, OAPP received 142 grant applications and was able to fund only 19 new projects. Grants may be approved for project periods of up to five years, and are funded in annual increments (budget periods). Funding for all approved budget periods beyond the first year of the grant is contingent upon the availability of funds, satisfactory progress of the project, and adequate stewardship of Federal funds.

Applications are encouraged from organizations which are currently operating programs that have the capability of expanding and enhancing these services to serve significant numbers of pre-adolescent and adolescents according to the guidelines specified in this announcement. Applications are also encouraged from organizations that have the capability to conduct a rigorous evaluation of the funded project.

III. Eligibility Information

Eligible Applicants

Any public or private nonprofit organization or agency is eligible to apply for a grant. However, only those organizations or agencies which demonstrate the capability of providing the proposed services and meet the statutory requirements are considered for grant awards. Faith-based and community-based organizations are encouraged to apply for AFL grants. Please note, however, that AFL funds may not be used for inherently religious activities, such as worship, religious instruction, and proselytization. If an organization engages in such activities, they must be offered separately in time or location from the program funded under the AFL program and participation must be voluntary for program beneficiaries. An AFL program, in providing services and outreach related to program services, cannot discriminate against current or prospective program beneficiaries on the basis of religion, a religious belief, a refusal to hold a religious belief, or a refusal to actively participate in a religious practice.

Cost Sharing

Section 2005(c)(2) authorizes that an AFL grant award may not exceed 70 percent of the total costs of the project for the first and second years, 60 percent of the total costs for the third year, 50 percent for the fourth year and 40 percent for the fifth year. The AFL non-Federal share of the project costs may be provided in cash expenditures or fairly evaluated in-kind contributions, including facilities, equipment, and services. Other Federal funds may not be used as an in-kind contribution.

IV. Application and Submission Information

Address To Request Application Package

Application kits may be requested from, and submitted to the OPHS Office of Grants Management, 1101 Wootton Parkway, Suite 550, Rockville, MD 20852, 301-594-0758. Application kits are also available online at the electronic grants management website (e-Grants) at https://egrants.osophs.dhhs.gov/. Applicants may fax a written request to the OPHS Office of Grants Management to obtain a hard copy of the application kit at (301) 594-9399.

Content and Form of Application

Application kits consisting of the OPHS-1 and appropriate forms, a copy of the Title XX legislation, a computer based technical assistance program to instruct applicants in the Title XX grant writing process, and guidance on the application process may be downloaded from the OPA Web site at http://opa.osophs.dhhs.gov. If you do not have access to the Internet, you may obtain a kit from the OPHS Office of Grants Management; 1101 Wootton Parkway, Suite 550; Rockville, MD 20852; by phone at 301-594-0758. The computer based technical assistance program on CD-Rom will be included in the kit. All completed applications must be submitted to the OPHS Office of Grants Management at the above mailing address. In preparing the application, it is important to follow ALL instructions provided in the application kit.

Applications must be submitted on the forms supplied (OPHS-1, Revised 6/2001) and in the manner prescribed in the application kits provided by the OAPP. Applicants are required to submit an application signed by an individual authorized to act for the applicant agency or organization and to assume for the organization the obligations imposed by the terms and conditions of the grant award. The program narrative should not be longer than 50 double-spaced pages, not including appendices and required forms, using an easily readable, 12 point font. All pages, figures, and tables should be numbered.

Applicants must be familiar with Title XX in its entirety to ensure that they have complied with all applicable requirements. A copy of the legislation is included in the application kit.

A Dun and Bradstreet Universal Numbering System (DUNS) number is required for all applications for Federal assistance. Organizations should verify that they have a DUNS number or take the steps necessary to obtain one. Instructions for obtaining a DUNS number are included in the application package, and may be downloaded from the OPA Web site.

Submission Mechanisms

The OAPP provides multiple mechanisms for submission of applications as described in the following sections.

Electronic Submission: The OPHS electronic grants management system, eGrants, provides for applications to be submitted electronically. While applications are accepted in hard copy, the use of the electronic application submissions capabilities provided by the eGrants system is encouraged. Information about this system is available on the OPA Web site at http://opa.osophs.dhhs.gov, or may be requested from the OPHS Office of Grants Management at 301-594-0758. Applications sent via any other means of electronic communication, including facsimile or electronic mail, outside of the OPHS eGrants system will not be accepted for review.

The body of the application and required forms can be submitted using the e-Grants system. In addition to electronically submitted materials, applicants are required to provide a hard copy of the application face page (Standard Form 424 [Revised 07/03]) with the original signature of an individual authorized to act for the applicant agency or organization and to assume for the organization the obligations imposed by the terms and conditions of the grant award. The application is not considered complete until both the electronic application and the hard copy of the face page with the original signature are received.

Electronic grant application submissions must be submitted no later than 5 p.m. eastern time on the deadline date specified in the DATES section of the announcement. All required hard copy original signatures and mail-in items must be received by the OPHS Office of Grants Management no later than 5 p.m. eastern time on the next business day after the deadline date specified in the DATES section of the announcement.

Applications will not be considered valid until all electronic application components, hard copy original signatures, and mail-in items are received by the OPHS Office of Grants Management according to the deadlines specified above. Any application submitted electronically after 5 p.m. eastern time on the deadline date specified in the DATES section of the announcement will be considered late and will be deemed ineligible. Failure of the applicant to submit all required hard copy original signatures to the OPHS Office of Grants Management by 5 p.m. eastern time on the next business day after the deadline date specified in the DATES section of the announcement will result in the electronic application being deemed ineligible.

Upon completion of a successful electronic application submission, the eGrants system will provide the applicant with a confirmation page indicating the date and time (eastern time) of the electronic application submission. This confirmation page will also provide the receipt status of all indicated signatures and items to be mailed to the OPHS Office of Grants Management. As items are received by the OPHS Office of Grants Management, the electronic application status will be updated to reflect the receipt of mail-in items. It is recommended that the applicant monitor the status of their application to ensure that all signatures and mail-in items are received.

Applicants are encouraged to initiate electronic applications early in the application development process, and to submit early on the due date or before. This will aid in addressing any problems with submission prior to the application deadline.

Mailed Hard Copy Applications: Applications submitted in hard copy must include an original and two copies of the application. The original application must be signed by an individual authorized to act for the applicant agency or organization and to assume for the organization the obligations imposed by the terms and conditions of the grant award.

Mailed applications will be considered as meeting the deadline if they are received by the OPHS Office of Grants Management on or before 5 p.m. eastern time on the deadline date specified in the DATES section of the announcement. The application deadline date requirement specified in this announcement supercedes the instructions in the OPHS-1. Applications that do not meet the deadline will be returned to the applicant unread.

Hand-Delivered Applications: Hand-delivered applications must be received by the OPHS Office of Grants Management, 1101 Wootton Parkway, Suite 550, Rockville, Maryland, 20852, no later than 5 p.m. eastern time on the deadline date specified in the DATES section of the announcement. Hand-delivered applications must include an original and two copies of the application. The original application must be signed by an individual authorized to act for the applicant agency or organization and to assume for the organization the obligations imposed by the terms and conditions of the grant award.

Intergovernmental Review

Applications for AFL grants must also meet both of the following requirements (each year):

(1) Requirements for Review of an Application by the Governor. Section 2006(e) of Title XX requires that each applicant shall provide the Governor of the State in which the applicant is located a copy of each application submitted to the OAPP for a grant for a demonstration project for services under this Title. The Governor has 60 days from the receipt date in which to provide comments to the applicant. An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC Requirements). Applications under this announcement are subject to the review requirements of E.O. 12372, “Intergovernmental Review of Federal Programs,” as implemented by 45 CFR part 100, “Intergovernmental Review of Department of Health and Human Services Programs and Activities.” E.O. 12372 sets up a system for state and local government review of proposed Federal assistance applications. As soon as possible, the applicant (other than Federally-recognized Indian tribal governments) should contact the State Single Point of Contact (SPOC) for each state in the area to be served. The application kit contains the currently available listing of the SPOCs which have elected to be informed of the submission of applications. For those states not represented on the listing, further inquiries should be made by the applicant regarding submission to the relevant SPOC. Information about the SPOC is located on the OMB Web site http://www.whitehouse.gov/omb/grants/spoc/html. The SPOC's comment(s) should be forwarded to the OPHS Office of Grants Management, 1101 Wootton Parkway, Suite 550, Rockville, MD 20852. The SPOC has 60 days from the closing date of this announcement to submit any comments.

Funding Restrictions

Applicants for discretionary grants are expected to anticipate and justify their funding needs and the activities to be carried out with those funds in preparing the budget and accompanying narrative portions of their applications. The basis for determining the allowability and allocability of costs charged to Public Health Service (PHS) grants is set forth in 45 CFR parts 74 and 92. If applicants are uncertain whether a particular cost is allowable, they should contact the OPHS Office of Grants Management at 301-594-0758 for further information.

V. Application Review Information

Criteria

Eligible competing grant applications will be reviewed by a multi-disciplinary panel of independent reviewers and will be assessed according to the following criteria:

(1) The applicant's presentation of a detailed evaluation plan that indicates an understanding of program evaluation methods, reflects a practical and technically sound approach to assessing both the project's implementation and its outcomes, demonstrates the capacity to participate in a cross-site evaluation, and the intent to incorporate the AFL care evaluation instrument into the outcome evaluation design. The applicant's provision of a clear statement of mission, goals, measurable (outcome) objectives, reasonable methods for achieving the objectives, a reasonable workplan and timetable, and clear statements of expected results. (30 points)

(2) The applicant's presentation of an innovative, detailed, and viable plan to involve fathers and/or male partners, parents and other family members, as well as strategies for recruitment and retention. (20 points)

(3) The applicant's presentation of an organizational model for service delivery with appropriate design, consistent with the requirements of Title XX that incorporates an innovative youth development or developmental assets approach. (10 points)

(4) The capacity of the applicant to implement the program, including personnel and other resources, and the applicant's experience and expertise in providing programs for adolescents. (10 points)

(5) The applicant's presentation of the need for the project, including the incidence of adolescent pregnancy in the geographic area to be served and the availability of services for adolescents within this geographic area. (10 points)

(6) The population the project proposes to serve, including ethnic composition, number of adolescent and pre-adolescent clients, fathers and/or male partners, family members, and community members. The applicant must specify how program staff demonstrate cultural and ethnic responsiveness to the target population. [Healthy People 2010 is a set of health objectives for the Nation to achieve over the first decade of the new century. The two goals of Healthy People 2010 are to increase quality of years of healthy life and to eliminate health disparities. In evaluating this criterion, priority will be given to programs which serve minority populations in order to eliminate health disparities.] (10 points)

(7) The community commitment to, and involvement in, planning and implementation of the project, as demonstrated by letters of commitment and willingness to participate in the project's implementation, acceptance of referrals, etc. (10 points)

Review and Selection Process

Final grant award decisions will be made by the Deputy Assistant Secretary for Population Affairs (DASPA). In making these decisions, the DASPA will take into account the extent to which applications recommended for approval will provide an appropriate geographic distribution of resources, the priorities in sec. 2005(a), and other factors including:

(1) Recommendations and scores submitted by the review panels;

(2) The geographic area to be served, particularly the underserved areas and populations;

(3) The reasonableness of the estimated cost of the project based on factors such as the incidence of adolescent pregnancy in the geographic area to be served and the availability of services for adolescents in this geographic area;

(4) The adequacy of the evaluation plan, including incorporation of the six evaluation criteria listed in the “Evaluation” section of this announcement, and the demonstrated ability to participate successfully in a cross-site evaluation; and

(5) The usefulness for policymakers and service providers of the proposed project and its potential for replication.

Special consideration may be granted to underserved areas and populations not currently receiving Title XX funding for care programs. However, all applicants are required to adhere to the DASPA criteria as set forth in this announcement. Please note that if there are multiple applicants from one State, the DASPA may elect to select only one applicant per State.

VI. Award Administration Information

Award Notices

The OAPP does not release information about individual applications during the review process until final funding decisions have been made. When final funding decisions have been made, the applicant's authorized representative will be notified of the outcome of their application by postal mail. The official document notifying an applicant that an application has been approved for funding is the Notice of Grant Award, which specifies to the grantee the amount of money awarded, the purposes of the grant, the length of the project period, terms and conditions of the grant award, and the amount of funding to be contributed by the grantee to project costs.

Administrative and National Policy Requirements

The regulations set out at 45 CFR parts 74 and 92 are the Department of Health and Human Services (HHS) rules and requirements that govern the administration of grants. Part 74 is applicable to all recipients except those covered by part 92, which governs awards to state and local governments. Applicants funded under this announcement must be aware of and comply with these regulations. The CFR volume that includes parts 74 and 92 may be downloaded from http://www.access.gpo.gov/nara/cfr/waisidx_03/45cfrv1_03.html.

The Buy American Act of 1933, as amended (41 U.S.C. 10a-10d), requires that Government agencies give priority to domestic products when making purchasing decisions. Therefore, to the greatest extent practicable, all equipment and products purchased with grant funds should be American-made.

A Notice providing information and guidance regarding the “Government-wide Implementation of the President's Welfare-to-Work Initiative for Federal Grant Programs” was published in the Federal Register on May 16, 1997. This initiative was designated to facilitate and encourage grantees and their sub-recipients to hire welfare recipients and to provide additional needed training and/or mentoring as needed. The text of the Notice is available electronically on the OMB Home page at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

Reporting Requirements

Applicants funded under this grant announcement will be required to electronically submit an End-of-Year Program, Evaluation and Financial report 90 days after the grant budget period ends. The Project Director and Evaluator are expected to attend an annual OAPP sponsored conference, as well as other OAPP sponsored training.

VII. Agency Contacts

Administrative and Budgetary Requirements

For information related to administrative and budgetary requirements, contact the OPHS Office of Grants Management, 1101 Wootton Parkway, Suite 550, Rockville, MD 20852; 301-594-0758.

Program Requirements

For information related to the OAPP program requirements, the OAPP staff are available at 301-594-4004 to answer questions and provide technical assistance on the preparation of grant applications. Questions may also be directed to the OAPP staff via e-mail at http://oapp@osophs.dhhs.gov. If contacting the OAPP by e-mail, please include the phrase “AFL Care Question” in the subject heading.

VIII. Other Information

Technical Assistance

The OAPP has scheduled a series of technical assistance workshops to help prospective applicants at no cost. At each of the one-day workshops, the public will be able to learn more about the purposes and requirements of the Title XX program, how to apply for funds under this program announcement, program eligibility requirements, the application selection process, and considerations that might help to improve the quality of grant applications. The OAPP encourages applicants to send a financial representative from their agency to the workshop. All participants must preregister using the form at http://opa.osophs.dhhs.gov or you may obtain a registration form from the OAPP at 301-594-4004. Written requests for registration forms may be faxed to 301-594-5981. The address of workshop locations and logistical information will be faxed or e-mailed to you upon receipt of your registration. The sessions are scheduled for the week of February 28-March 4, 2005, in the following locations. Alexandria, VA, Portland, OR, Kansas City, MO, Detroit, MI, Nashville, TN, Albuquerque, NM.

In addition to the technical assistance workshops, a free interactive computer based technical assistance program is available to instruct applicants in the Title XX grant writing process. The Computer Based Technical Assistance Program can be downloaded at the OPA Web site at http://opa.osophs.dhhs.gov. If you do not have access to the Internet, a CD-Rom is included in the hard copy of the application kit which can be obtained from the OPHS Office of Grants Management, 1101 Wootton Parkway, Suite 550, Rockville, MD 20852; 301-594-0758.

Dated: January 14, 2005.
Alma L. Golden,
Deputy Assistant Secretary for Population Affairs.

[FR Doc. 05-1960 Filed 2-1-05; 8:45 am]

BILLING CODE 4150-30-P